DEPARTMENT OF THE INTERIOR

National Park Service

Winter Use Plans, Final Environmental Impact Statement, Yellowstone and Grand Teton National Parks and the John D. Rockefeller, Jr., Memorial Parkway, Wyoming

AGENCY: National Park Service, Department of the Interior.

ACTION: Notice of Availability of the Final Environmental Impact Statement for the Winter Use Plans, Yellowstone and Grand Teton National Parks and the John D. Rockefeller, Jr., Memorial Parkway.

SUMMARY: Pursuant to National Environmental Policy Act of 1969, 42 U.S.C. 4332(2)(C), the National Park Service announces the availability of a Final Environmental Impact Statement for the Winter Use Plans, Yellowstone and Grand Teton National Parks and the John D. Rockefeller, Jr., Memorial Parkway, Wyoming.

Seven alternative winter use management plans are evaluated in this EIS; alternative 7 is the NPS preferred alternative. Alternative 1 would put into place the provisions of the temporary winter use plan of August 2004, with some modifications. Alternative 2 would prohibit recreational snowmobiling in the parks in favor of snowcoach access. Alternative 3A would close much of Yellowstone to oversnow travel, leaving the South Entrance to Old Faithful route open to such use. A variation of alternative 3 (3B) is the no action alternative—it closes all routes to motorized oversnow recreation. This would be the outcome of the temporary plan, should no new decision be made. Four other alternatives (4, 5, 6, and 7) would allow varying levels of snowmobile and snowcoach access to continue in the parks. Alternative 4 would allow for increased snowmobile use, relative to historic numbers. Alternative 5 would allow for some unguided snowmobile use and would feature seasonal and flexible daily entry limits in Yellowstone. Alternative 6 would provide for plowing some roads in Yellowstone to allow commercial wheeled-vehicle access from West Yellowstone and Mammoth to Old Faithful. Preferred alternative 7 would provide for a balance of snowmobile and snowcoach use and protect park soundscapes, air quality, wildlife and other resources. In Yellowstone, the daily limit on snowmobiles would be 540 snowmobiles per day in Yellowstone. 65 snowmobiles would be allowed per day in Grand Teton and the Parkway. In Yellowstone, all snowmobilers would be required to travel with a commercial guide, and in both parks, all snowcoaches and most snowmobiles would be required to use Best Available Technology (BAT). 83 snowcoaches would be allowed into Yellowstone daily. The East Entrance would remain open for cross-country ski and snowshoe access.

DATES: The National Park Service will execute a Record of Decision (ROD) no sooner than 30 days following publication by the Environmental Protection Agency of the Notice of Availability of the Final Environmental Impact Statement.

ADDRESSES: Information will be available for public inspection online at http://parkplanning.nps.gov/yell, in the office of Superintendent Suzanne Lewis, PO Box 168, Yellowstone National Park, WY 82190, 307-344-2019 and in the office of Superintendent Mary Gibson Scott, Grand Teton National Park, PO Drawer 170, Moose, WY 83012-0170, 307-739-3300.

FOR FURTHER INFORMATION CONTACT: Kevin Franken, P.O. Box 168, Yellowstone National Park, WY 82190, 307-344-2019, yell_winter_use@nps.gov.

Dated: August 30, 2007.
John T. Crowley
Acting Regional Director, Intermountain Region, National Park Service.

[FR Doc. E7-18935 Filed 9-24-07; 8:45 am]

BILLING CODE 4312-CT-P